ENVIRONMENTAL PROTECTION AGENCY

[FRL-9154-3; Docket ID No. EPA-HQ-ORD-2008-0663]

An Exposure Assessment of Polybrominated Diphenyl Ethers (PBDEs)

AGENCY: Environmental Protection Agency (EPA).

ACTION: Notice of availability.

SUMMARY: The U.S. Environmental Protection Agency (EPA) is announcing the availability of a final report titled, “An Exposure Assessment of Polybrominated Diphenyl Ethers” (EPA/600/R-08/086F). This document was prepared by the National Center for Environmental Assessment (NCEA) within EPA's Office of Research and Development in support of objectives identified in EPA's 2006 Polybrominated Diphenyl Ethers (PBDEs) Project Plan. This document provides an assessment of the exposure of Americans to polybrominated diphenyl ethers (PBDEs), a class of brominated flame retardants. It includes chapters on use and production of PBDEs, environmental fate, environmental and exposure media concentrations, and an exposure assessment including background exposures and exposures to special populations.

DATES: The document will be available on or about May 24, 2010.

ADDRESSES: The report titled, “An Exposure Assessment of Polybrominated Diphenyl Ethers” (EPA/600/R-08/086F) will be available primarily via the Internet on the NCEA home page under the Recent Additions and Publications menus at http://www.epa.gov/ncea. A limited number of paper copies are available from the Information Management Team (Address: Information Management Team, National Center for Environmental Assessment (Mail Code: 8601P), U.S. Environmental Protection Agency, 1200 Pennsylvania Avenue, NW., Washington, DC 20460; telephone: 703-347-8561; facsimile: 703-347-8691). If you request a paper copy, please provide your name, mailing address, and the document title, “An Exposure Assessment of Polybrominated Diphenyl Ethers” (EPA/600/R-08/086F).

FOR FURTHER INFORMATION CONTACT: For technical information, contact Mr. Matthew Lorber, NCEA; telephone: 703-347-8535; facsimile: 703-347-8692; or e-mail: lorber.matthew@epa.gov.

SUPPLEMENTARY INFORMATION:

I. Information About the Document

This document provides an assessment of the exposure of Americans to polybrominated diphenyl ethers (PBDEs), a class of brominated flame retardants. The use of PBDEs as flame retardants in products associated with the indoor environment has led to exposures primarily associated with indoor dust. This exposure pattern differs from other persistent organic pollutants, such as dioxins and PCBs, where exposure is dominated by food ingestion. Human biomonitoring data indicate blood levels of PBDEs in the United States are higher than those measured in other parts of the world. Intake doses, expressed on a body weight basis, are highest for infants who breast feed and higher for children compared with those for adults.

In December 2008, the draft report was released for independent external review, and a Federal Register notice published on December 4, 2008, announced the start of a public review and comment period. This final report addresses comments received from both the external peer review panel and the public.

Dated: May 3, 2010.
Rebecca Clark,
Acting Director, National Center for Environmental Assessment.

[FR Doc. 2010-12378 Filed 5-21-10; 8:45 am]

BILLING CODE 6560-50-P